ENVIRONMENTAL PROTECTION AGENCY

[ER-FRL-9023-5]

Environmental Impact Statements; Notice of Availability

Responsible Agency: Office of Federal Activities, General Information (202) 564-7146 or http://www2.epa.gov/nepa.

Weekly receipt of Environmental Impact Statements (EISs)

Filed 10/05/2015 Through 10/09/2015

Pursuant to 40 CFR 1506.9.

Notice

Section 309(a) of the Clean Air Act requires that EPA make public its comments on EISs issued by other Federal agencies. EPA's comment letters on EISs are available at: https://cdxnodengn.epa.gov/cdx-nepa-public/action/eis/search.

EIS No. 20150289, Revised Draft, USAF, GU, Divert Activities and Exercises, Commonwealth of the Northern Mariana Islands, Comment Period Ends: 11/30/2015, Contact: Mark Petersen 808-449-1078.

EIS No. 20150290, Final, USCG, MARAD, NY, Port Ambrose Deepwater Port Application, Review Period Ends: 11/30/2015, Contact: Roddy C. Bachman 202-372-1451.

Amended Notices

EIS No. 20150231, Draft, USACE, CT, PROGRAMMATIC-Long Island Sound Dredged Material Management Plan, Comment Period Ends: 10/16/2015, Contact: Meghan Quinn 978-318-8179. Revision to the FR Notice Published 08/21/2015; Extended Comment Period from 10/05/2015 to 10/16/2015.

EIS No. 20150253, Draft, USACE, PR, Caño Martín Peña Ecosystem Restoration Project, Comment Period Ends: 11/09/2015, Contact: Jim Suggs 904-232-1018. Revision to the FR Notice Published 09/11/2015; Extending Comment Period from 10/26/2015 to 11/09/2015.

Dated: October 13, 2015.
Karin Leff,
Acting Director, NEPA Compliance Division, Office of Federal Activities.

[FR Doc. 2015-26348 Filed 10-15-15; 8:45 am]

BILLING CODE 6560-50-P